DEPARTMENT OF ENERGY

Federal Energy Regulatory Commission

Notice of Application for Temporary Amendment of License and Soliciting Comments, Motions To Intervene, and Protests

June 6, 2006.

Take notice that the following hydroelectric application has been filed with the Commission and is available for public inspection:

a. Type of Application: Request for an amendment of license to delete an island from the project boundary.

b. Project No.: 405-069.

c. Date Filed: May 15, 2006.

d. Applicant: PECO Energy Power Company and Susquehanna Power Company.

e. Name of Project: Conowingo.

f. Location: The project is located on the Susquehanna River in Harford and Cecil Counties in Maryland, and Lancaster and York Counties in Pennsylvania.

g. Filed pursuant to: Federal Power Act, 16 U.S.C. 791a—825r

h. Applicant Contact: Mr. Brian J. McManus, Jones Day, 51 Louisiana Avenue, NW., Washington, DC 20001, Tel: (202) 879-3939 with copies of all correspondence and communications to:

Mr. H. Alfred Ryan, Assistant General Counsel, Excelon Business Services Co., 231 Market Street, PA 19103, (215) 841-6855; and

Ms. A. Karen Hill, Vice President Federal Regulatory Affairs, Excelon Business Services Co., 101 Constitution Avenue, Washington, DC 20001, (202) 347-8092.

i. FERC Contact: Any questions on this notice should be addressed to Vedula Sarma (202) 502-6190, or vedula.sarma@ferc.gov.

j. Deadline for filing motions to intervene, protests, comments: July 7, 2006.

k. Description of Proposed Action: PECO Energy Power Company and Susquehanna Power Company, licensees for the Conowingo Project, seek authorization to convey approximately 79 acres of project lands, known as Roberts Island, by donation to The Conservancy Fund, a non-profit corporation dedicated to environment and natural resource protection.

l. Locations of Applications: A copy of the application is available for inspection and reproduction at the Commission in the Public Reference Room, located at 888 First Street NE., Room 2A, Washington DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call toll-free 1-866-208-3676 or e-mail FERCOnlineSupport@ferc.gov. For TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. All documents (original and eight copies) should be filed with: Magalie R. Salas, Secretary, Federal Energy Regulatory Commission, 888 First Street, NE., Washington DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E6-9100 Filed 6-9-06; 8:45 am]

BILLING CODE 6717-01-P